GENERAL SERVICES ADMINISTRATION

[OMB Control No. 3090-0252; Correction; Information Collection; Docket 2012-0001, Sequence 6]

General Services Administration Acquisition Regulation; Preparation, Submission, and Negotiation of Subcontracting Plans; Correction

AGENCY: General Services Administration (GSA).

ACTION: Correction.

SUMMARY: This document contains a correction to the information collection notice that was published in the Federal Register at 77 FR 9658 on February 17, 2012.

FOR FURTHER INFORMATION CONTACT: The Regulatory Secretariat, at 1275 First Street NE., Washington, DC 20417, or (202) 501-4755, for information pertaining to status or publication schedules. Please cite OMB Control No. 3090-0252, Preparation, Submission, and Negotiation of Subcontracting Plans; Correction.

Correction

In the information collection document appearing at 77 FR 9658 on February 17, 2012, on page 9658, second column, paragraph 2, line 12, the figures “$500,000 (1,000,000)” is corrected to read “$650,000 (1,500,000)”.

Dated: March 2, 2012
Mindy S. Connolly,
Chief Acquisition Officer, U.S. General Services Administration.

[FR Doc. 2012-5607 Filed 3-7-12; 8:45 am]

BILLING CODE 6820-61-P